DEPARTMENT OF HEALTH AND HUMAN SERVICES

National Institutes of Health National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel, Cognitive Decline with Aging.

Date: January 29-30, 2003.

Time: 6 p.m. to 5 p.m.

Agenda: To review and evaluate grant applications.

Place: Radisson Plaza Hotel, 815 Main Street, Ft. Worth, TX.

Contact Person: Louise L. Hsu, PhD, The Bethesda Gateway Building, 7201 Wisconsin Avenue/Suite 2C212, (301) 496-7705.

This notice is being published less than 15 days prior to the meeting due to the timing limitations imposed by the review and funding cycle.

Name of Committee: National Institute on Aging Special Emphasis Panel, Role of Insulin Pathways in Aging.

Date: February 10-11, 2003.

Time: 7 p.m. to 10 p.m.

Agenda: To review and evaluate grant applications.

Place: Four Points Sheraton Riverwalk North, 110 Lexington Avenue, San Antonio, TX 78205.

Contact Person: James P. Harwood, PhD, Deputy Chief, Scientific Review Office, Gateway Building 2C212, 7201 Wisconsin Avenue, Bethesda, MD 20814, (301) 496-9666, harwoodj@mail.nih.gov.

Name of Committee: National Institute on Aging Special Emphasis Panel, Immunology of Aged T Cells.

Date: February 17-18, 2003.

Time: 7 p.m. to 5 p.m.

Agenda: To review and evaluate grant applications.

Place: Empress Hotel, 7766 Fay Avenue, La Jolla, CA 92037.

Contact Person: James P. Harwood, PhD, Deputy Chief, Scientific Review Office, Gateway Building 2C212, 7201 Wisconsin Avenue, Bethesda, MD 20814, (301) 496-9666, harwoodj@mail.nih.gov.

(Catalogue of Federal Domestic Assistance Program Nos. 93.866, Aging Research, National Institutes of Health, HHS)
Dated: January 3, 2003.
Anna Snouffer,
Deputy Director, Office of Federal Advisory Committee Policy.

[FR Doc. 03-444 Filed 1-9-03; 8:45 am]

BILLING CODE 4140-01-M